DEPARTMENT OF TRANSPORTATION

Federal Aviation Administration

14 CFR Part 39

[Docket No. 2004-CE-11-AD]

RIN 2120-AA64

Airworthiness Directives; Raytheon Aircraft Company Model B100 Airplanes

AGENCY: Federal Aviation Administration (FAA), DOT.

ACTION: Notice of proposed rulemaking (NPRM).

SUMMARY: The FAA proposes to adopt a new airworthiness directive (AD) for certain Raytheon Aircraft Company (Raytheon) Model B100 airplanes. This proposed AD would require you to drill holes in the hot lip tube “B” nuts; tighten the “B” nuts to specified torque ranges; and secure the “B” nuts with safety wire. This proposed AD is the result of reports of loose “B” nuts on the engine inlet that may loosen and permit a leak in the engine inlet anti-ice system. We are issuing this proposed AD to detect and correct loose “B” nuts on the engine inlet, which could result in failure of the engine inlet anti-ice system and consequent ice buildup. This failure and ice buildup could lead to an engine's ingestion of ice with loss of engine power or loss of engine.

DATES: We must receive any comments on this proposed AD by July 26, 2004.

ADDRESSES: Use one of the following to submit comments on this proposed AD:

• By mail: FAA, Central Region, Office of the Regional Counsel, Attention: Rules Docket No. 2004-CE-11-AD, 901 Locust, Room 506, Kansas City, Missouri 64106.

• By fax: (816) 329-3771.

• By e-mail: 9-ACE-7-Docket@faa.gov. Comments sent electronically must contain “Docket No. 2004-CE-11-AD” in the subject line. If you send comments electronically as attached electronic files, the files must be formatted in Microsoft Word 97 for Windows or ASCII.

You may get the service information identified in this proposed AD from Raytheon Aircraft Company, 9709 E. Central, Wichita, Kansas 67201-0085; telephone: (800) 429-5372 or (316) 676-3140.

You may view the AD docket at FAA, Central Region, Office of the Regional Counsel, Attention: Rules Docket No. 2004-CE-11-AD, 901 Locust, Room 506, Kansas City, Missouri 64106. Office hours are 8 a.m. to 4 p.m., Monday through Friday, except Federal holidays.

FOR FURTHER INFORMATION CONTACT: Jeff Pretz, Aerospace Engineer, Wichita Aircraft Certification Office, FAA, 1801 Airport Road, Mid-Continent Airport, Wichita, Kansas 67209; telephone: (316) 946-4153; facsimile: (316) 946-4407.

SUPPLEMENTARY INFORMATION:

Comments Invited

How do I comment on this proposed AD? We invite you to submit any written relevant data, views, or arguments regarding this proposal. Send your comments to an address listed under ADDRESSES. Include “AD Docket No. 2004-CE-11-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What events have caused this proposed AD? The FAA has received six reports of loose “B” nuts on the Raytheon Model B100 engine inlet anti-ice system found during routine maintenance. These loose “B” nuts may permit a leak in the engine inlet anti-ice system that would result in failure of the system with consequent ice buildup on the engine inlet.

What is the potential impact if FAA took no action? Failure of the engine inlet anti-ice system and consequent ice buildup could lead to an engine's ingestion of ice with loss of engine power or loss of engine.

Is there service information that applies to this subject? Raytheon has issued Service Bulletin No. SB 30-3143, dated September 2001.

What are the provisions of this service information? The service bulletin includes procedures for:

—Drilling a 0.035-inch hole in each of the hot lip tube “B” nuts (part numbers (P/N) AN818-6D and AN818-8D);

—tightening P/N AN818-6D “B” nuts to a torque range of 75 to 125 inch-pounds and P/N AN818-8D “B” nuts to a torque range of 150 to 250 inch-pounds; and

—securing the “B” nuts (P/N AN818-6D and P/N AN818-8D) with safety wire.

FAA's Determination and Requirements of This Proposed AD

What has FAA decided? We have evaluated all pertinent information and identified an unsafe condition that is likely to exist or develop on other products of this same type design. Therefore, we are proposing AD action.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 96 airplanes in the U.S. registry.

What would be the cost impact of this proposed AD on owners/operators of the affected airplanes? We estimate the following costs to accomplish this proposed inspection and modification:

Labor cost | Parts cost | Total cost per airplane | Total cost on U.S. operations
4 workhours × $65 per hour = $260. | Not applicable. | $260 | $24,960

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2004-CE-11-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Raytheon Aircraft Company: Docket No. 2004-CE-11-AD

When Is the Last Date I Can Submit Comments on This Proposed AD?

(a) We must receive comments on this proposed airworthiness directive (AD) by July 26, 2004.

What Other ADs Are Affected by This Action?

(b) None.

What Airplanes Are Affected by This AD?

(c) This AD affects Models B100, serial numbers BE-1 through BE-136, that are certificated in any category.

What Is the Unsafe Condition Presented in This AD?

(d) This AD is the result of reports of loose “B” nuts on the engine inlet that may loosen and permit a leak in the engine inlet anti-ice system. The actions specified in this AD are intended to detect and correct loose “B” nuts on the engine inlet, which could result in failure of the engine inlet anti-ice system and consequent ice buildup. This failure and ice buildup could lead to an engine's ingestion of ice with loss of engine power or loss of engine.

What Must I Do To Address This Problem?

(e) To address this problem, you must do the following, unless already done:

Actions | Compliance | Procedures
(1) Drill a 0.035-inch hole in each of the hot lip tube “B” nuts (part number (P/N) AN818-6D and AN818-8D) | Within the next 150 hours time-in-service (TIS) or 6 calendar months after the effective date of this AD, whichever occurs first | Follow Raytheon Aircraft Mandatory Service Bulletin No. SB 30-3143, dated September 2001. The applicable airplane maintenance manual also addresses this issue.
(2) Tighten the hot lip tube “B” nuts to a specified torque range: (i) Tighten hot lip tube “B” nuts P/N AN818-6D to a torque range of 75 to 125 inch-pounds | Before further flight after the actions required by paragraph (e)(1) of this AD | Follow Raytheon Aircraft Mandatory Service Bulletin No. SB 30-3143, dated September 2001. The applicable airplane maintenance manual also addresses this issue.
(ii) Tighten hot lip tube “B” nuts P/N AN818-8D to a torque range of 150 to 250 inch-pounds
(3) Secure the hot lip tube “B” nuts (P/N AN818-6D and AN818-8D) with safety wire | Before further flight after the actions required by paragraph (e)(2) of this AD | Follow Raytheon Aircraft Mandatory Service Bulletin No. SB 30-3143, dated September 2001. The applicable airplane maintenance manual also addresses this issue.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Jeff Pretz, Aerospace Engineer, Wichita ACO, FAA, 1801 Airport Road, Mid-Continent Airport, Wichita, Kansas 67209; telephone: (316) 946-4153; facsimile: (316) 946-4407.

May I Get Copies of the Documents Referenced in This AD?

(g) You may get copies of the documents referenced in this AD from Raytheon Aircraft Company, 9709 E. Central, Wichita, Kansas 67201-0085; telephone: (800) 429-5372 or (316) 676-3140. You may view these documents at FAA, Central Region, Office of the Regional Counsel, 901 Locust, Room 506, Kansas City, Missouri 64106.

Issued in Kansas City, Missouri, on May 20, 2004.
James E. Jackson,
Acting Manager, Small Airplane Directorate, Aircraft Certification Service.

[FR Doc. 04-11877 Filed 5-25-04; 8:45 am]

BILLING CODE 4910-13-P